DEPARTMENT OF THE TREASURY

Internal Revenue Service

26 CFR Part 1

[Reg-126485-01]

RIN 1545-BA06

Statutory Mergers and Consolidations; Hearing Cancellation

AGENCY: Internal Revenue Service (IRS), Treasury.

ACTION: Cancellation of notice of public hearing on proposed rulemaking.

SUMMARY: This document cancels the public hearing on proposed regulations that define the term statutory merger or consolidation as that term is used in section 368(a)(1)(A).

DATES: The public hearing originally scheduled for Wednesday, March 13, 2002, at 10 a.m., is cancelled.

FOR FURTHER INFORMATION CONTACT: LaNita Van Dyke of the Regulations Unit, Associate Chief Counsel (Income Tax and Accounting), (202) 622-7190 (not a toll-free number).

SUPPLEMENTARY INFORMATION: A notice of proposed rulemaking and notice of public hearing that appeared in the Federal Register on Thursday, November 15, 2001 (66 FR 57400), announced that a public hearing was scheduled for Wednesday, March 13, 2002, at 10 a.m., in the IRS Auditorium, Internal Revenue Building, 1111 Constitution Avenue, NW., Washington, DC. The subject of the public hearing is proposed regulations under section 368 of the Internal Revenue Code. The public comment period for these proposed regulations expired on Wednesday, February 20, 2002.

The notice of proposed rulemaking and notice of public hearing, instructed those interested in testifying at the public hearing to submit a request to speak and an outline of the topics to be addressed. As of Tuesday, February 26, 2002, no one has requested to speak. Therefore, the public hearing scheduled for Wednesday, March 13, 2002, is cancelled.

Cynthia E. Grigsby,
Chief, Regulations Unit, Associate Chief Counsel (Income Tax and Accounting).

[FR Doc. 02-5235 Filed 3-4-02; 8:45 am]

BILLING CODE 4830-01-P